DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 23, 2018. Address written comments to Statutory Import Programs Staff, Room 3720, U.S. Department of Commerce, Washington, DC 20230. Applications may be examined between 8:30 a.m. and 5:00 p.m. at the U.S. Department of Commerce in Room 3720.

Docket Number: 17-017. Applicant: University of Pittsburgh of the Commonwealth System of Higher Education, 116 Atwood Street, Suite 201, Pittsburgh, PA 15260. Instrument: Photonic Professional GT System. Manufacturer: Nanoscribe, Germany. Intended Use: The instrument will be used to support the fabrication of devices comprised primarily of both commercially available and in house developed UV curable polymers. Biomaterials and other biopolymers that have been specifically designed to be cured using a radical polymerization process will also be investigated in this device. Any polymer or biomaterial that can be ablated using the wavelength and power available in the Nanoscribe system will also be used for subtractive manufacturing. Justification for Duty-Free Entry: There are no instruments of the same general category manufactured in the United States. Application accepted by Commissioner of Customs: August 2, 2017.

Docket Number: 18-001. Applicant: William March Rice University, 6100 Main Street, Houston, TX 77005. Instrument: 3D-Discovery Bioprinter and Direct Write Electrospinner. Manufacturer: regenHU, Switzerland. Intended Use: The instrument will be used for a multitude of techniques across disciplines ranging from biology to materials science, chemical engineering and bioengineering. Techniques like thermoplastic and hydrogel extrusion, 3D printing, 2-component printing, cell-bioprinting, electrospinning/direct write electrospinning, drug/factor encapsulation. Justification for Duty-Free Entry: There are no instruments of the same general category manufactured in the United States. Application accepted by Commissioner of Customs: February 28, 2018.

Docket Number: 18-002. Applicant: Centers for Disease Control and Prevention, 1600 Clifton Road NE, Building #17, Room 5225, Atlanta, GA 30333. Instrument: CelloScope Optical Screening Instrument. Manufacturer: BioSense Solutions ApS, Denmark. Intended Use: The instrument will be used for research use only to study several Gram-negative and Gram-positive bacterial pathogens. Use of this optical screening instrument, will be developing and evaluating an automated antimicrobial susceptibility test for bacterial pathogens based on time-lapse imaging of cells incubating in broth microdilution drug panels. Experiments to be conducted include growth assessment of these bacterial pathogens in the presence and absence of clinically relevant antibiotics. The antibiotics selected for our studies are those recommended by the Clinical and Laboratory Standards Institute (CLSI) for primary testing. The objectives of the investigations are to more rapidly determine antimicrobial susceptibility of bacterial pathogens. Currently, the gold-standard method for antimicrobial susceptibility testing requires 16-20 or 24-48 hours, depending on the species. The techniques required to perform these experiments include inoculation of a testing drug panel with a bacterial suspension and assessing susceptibly by optical screening. The research conducted using this instrument may substantially reduce the time required to make an informed therapeutic decision. Justification for Duty-Free Entry: There are no instruments of the same general category manufactured in the United States. Application accepted by Commissioner of Customs: March 15, 2018.

Docket Number: 18-003. Applicant: University of Virginia, Physics Department, 382 McCormick Road, Charlottesville, VA 22903. Instrument: Superconducting Magnet System. Manufacturer: Cryogenic Ltd., United Kingdom. Intended Use: The instrument will be used to study the beta decay of neutrons. Neutrons are elementary constituents of any matter in our universe. The experiments require measuring the kinetic energies of electrons and protons, two of the particles that are produced in neutron decay. The Nab spectrometer is to extract the neutrino-electron correlation coefficient “a” and the Fierz term “b” which describes the dynamic properties of the decay particles; the results test our understanding of the Standard Model of Elementary Particle Physics. The Nab spectrometer, electrons and protons are guided by the magnetic field, produced by the magnet system that we are importing. Electrons and protons eventually reach detectors. The detectors allow us to determine the kinetic energies of both particles, respectively. Justification for Duty-Free Entry: There are no instruments of the same general category manufactured in the United States. Application accepted by Commissioner of Customs: April 17, 2018.

Docket Number: 18-004. Applicant: University of Nebraska-Lincoln, Procurement Services, 1700 Y Street, Lincoln, NE 68588-0645. Instrument: Closed Cycle Cryogen Free Cryostat. Manufacturer: Autocue Systems, Germany. Intended Use: The instrument will be used to study the optoelectronic properties of novel atomically thin semiconductor materials such as metal chalcogenides, which are promising for application in energy conversion (for example solar cells) and micro-/nanoelectronics. Leading-edge fundamental research on the optoelectronic properties of novel nanomaterials, with the goal of developing advanced materials to support the needs for new energy conversion processes and next-generation electronics and computing. Justification for Duty-Free Entry: There are no instruments of the same general category manufactured in the United States. Application accepted by Commissioner of Customs: April 17, 2018.

Dated: June 27, 2018.
Gregory W. Campbell,
Director, Subsidies Enforcement, Enforcement and Compliance.

[FR Doc. 2018-14264 Filed 7-2-18; 8:45 am]

BILLING CODE 3510-DS-P